DEPARTMENT OF HOMELAND SECURITY

Coast Guard

33 CFR Part 105

[Docket Nos. TSA-2006-24191; USCG-2006-24196]

Transportation Worker Identification Credential (TWIC) Implementation in the Maritime Sector; Hazardous Materials Endorsement for a Commercial Driver's License

AGENCY: United States Coast Guard; DHS.

ACTION: Notice of extension of compliance date, American Samoa, Captain of the Port Zone Honolulu.

SUMMARY: This document informs owners and operators of facilities located on the island of American Samoa within Captain of the Port Zone Honolulu that the date by which they must implement access control procedures utilizing TWIC has been extended to no later than April 14, 2009. This extension is due to the fact that a large percentage of the maritime workforce in American Samoa is not native to the island, and do not need to comply with United States immigration laws.

DATES: The new compliance date for the TWIC regulations found in 33 CFR part 105 for the island of American Samoa in Captain of the Port Zone Honolulu is April 14, 2009.

ADDRESSES: Comments and material received from the public, as well as documents mentioned in this document as being available in the docket, are part of dockets TSA-2006-24191 and USCG-2006-24196, and are available for inspection or copying at the Docket Management Facility, U.S. Department of Transportation, West Building Ground Floor, Room W12-140, 1200 New Jersey Avenue, SE., Washington, DC 20590, between 9 a.m. and 5 p.m., Monday through Friday, except Federal holidays. You may also find this docket on the Internet at http://www.regulations.gov.

FOR FURTHER INFORMATION CONTACT: If you have questions on this document, call LCDR Jonathan Maiorine, telephone 1-877-687-2243. If you have questions on viewing the docket, call Renee V. Wright, Program Manager, Docket Operations, telephone 202-493-0402.

SUPPLEMENTARY INFORMATION:

I. Regulatory History

On May 22, 2006, the Department of Homeland Security (DHS), through the United States Coast Guard (Coast Guard) and the Transportation Security Administration (TSA), published a joint notice of proposed rulemaking entitled “Transportation Worker Identification Credential (TWIC) Implementation in the Maritime Sector; Hazardous Materials Endorsement for a Commercial Driver's License” in the Federal Register (71 FR 29396). This was followed by a 45-day comment period and four public meetings. The Coast Guard and TSA issued a joint final rule, under the same title, on January 25, 2007 (72 FR 3492) (hereinafter referred to as the original TWIC final rule). The preamble to that final rule contains a discussion of all the comments received on the NPRM, as well as a discussion of the provisions found in the original TWIC final rule, which became effective on March 26, 2007.

On May 7, 2008, the Coast Guard and TSA issued a final rule to realign the compliance date for implementation of the Transportation Worker Identification Credential (73 FR 25562). The date by which mariners need to obtain a TWIC, and by which owners and operators of vessels and outer continental shelf facilities must implement access control procedures utilizing TWIC, is April 15, 2009. Owners and operators of facilities that must comply with 33 CFR part 105 are subject to earlier, rolling compliance dates, as set forth in 33 CFR 105.115(e). The Coast Guard announced the rolling compliance dates, as provided in 33 CFR 105.115(e), at least 90 days in advance via notices published in the Federal Register. The final compliance date for all COTP Zones will not be later than April 15, 2009.

On September 30, 2008, we announced the compliance date for COTP Zone Honolulu would be February 12, 2009 (73 FR 56730).

II. Notice of Facility Compliance Date—American Samoa, COTP Zone Honolulu

Title 33 CFR 105.115(e) currently states that “[f]acility owners and operators must be operating in accordance with the TWIC provisions in this part by the date set by the Coast Guard in a Notice to be published in the Federal Register.” Through this Notice, the Coast Guard informs the owners and operators of facilities subject to 33 CFR 105.115(e) located on American Samoa within COTP Zone Honolulu that the deadline for their compliance with Coast Guard and TSA TWIC requirements has been extended until April 14, 2009.

This extension is being granted due to the fact that approximately 87% of the maritime workers that require TWICs in American Samoa are not native to the island, and do not need to comply with United States immigration laws. They are not issued a visa by the U.S. Department of State (DOS), and therefore they do not meet the immigration standards required for a TWIC, found in 49 CFR 1572.105. This new date provides sufficient time for the Coast Guard, in consultation with TSA, DHS, and DOS, to determine whether there is an equivalent visa category that these workers can use to qualify for a TWIC, or whether the TWIC requirement for facilities in American Samoa needs to be reconsidered, as it was for facilities located in the Commonwealth of the Northern Marianas Islands (72 FR 55043).

We note that this compliance delay ONLY applies to facilities located on the island of American Samoa; facilities subject to 33 CFR part 105 in the remainder of COTP Zone Honolulu must continue to comply with the TWIC requirements beginning February 12, 2009.

You may visit our Web site at homeport.uscg.mil/twic for a listing of all compliance dates by COTP Zone. This list is subject to change; any changes in compliance dates will appear on that Web site and be announced in the Federal Register.

Dated: February 9, 2009.
Mark P. O'Malley,
Captain, U.S. Coast Guard, Chief, Ports and Facilities Activities.

[FR Doc. E9-3119 Filed 2-10-09; 1:00 pm]

BILLING CODE 4910-15-P